RAILROAD RETIREMENT BOARD

20 CFR Parts 260 and 320

RIN 3220-AB59

Requests for Reconsideration and Appeals Within the Board

AGENCY: Railroad Retirement Board.

ACTION: Final rule.

SUMMARY: The Railroad Retirement Board (Board) amends its regulations to include video teleconferencing as an option for hearings of appeals under the Railroad Retirement Act and Railroad Unemployment Insurance Act. The Board's hearings officers will determine if a hearing should be scheduled using this option, rather than a telephone conference call hearing or an in person hearing.

DATES: Effective Date: This regulation will be effective September 22, 2006.

ADDRESSES: Beatrice Ezerski, Secretary to the Board, Railroad Retirement Board, 844 Rush Street, Chicago, Illinois 60611.

FOR FURTHER INFORMATION CONTACT: Marguerite P. Dadabo, Assistant General Counsel, Railroad Retirement Board, 844 Rush Street, Chicago, Illinois 60611, (312) 751-4945, TDD (312) 751-4701.

SUPPLEMENTARY INFORMATION: Part 260 of the Board's regulations deals generally with administrative review of denials of claims or requests for waiver of recovery of overpayments under the Railroad Retirement Act (RRA). Part 320 deals with the same matters under the Railroad Unemployment Insurance Act (RUIA). The Board amends these parts to state that, at the discretion of the hearings officer, hearings held during the appeal process may be conducted in person, by telephone conference call, or by video teleconferencing. Previously, the regulations only allowed for hearings to be held in person or by telephone conference call.

Specifically, the Board amends §§ 260.5(i) and 320.22 to state that a proposed hearing may be held in person, by telephone conference call, or by video teleconferencing. These sections also state that if an individual objects to having a hearing by video teleconferencing, the hearings officer will find the individual had good cause for objecting to the time or place of the hearing and will reschedule the individual for either a telephone or an in person hearing for the appeal. The regulation also amends §§ 260.5(1) and 320.25 to state that the hearings officer determines whether a hearing is scheduled for a telephone conference call, video teleconferencing, or in person.

The Board published the proposed rule on December 9, 2005 (70 FR 73175) and invited comments by February 7, 2006. No comments were received. Accordingly, the proposed rule is being published as a final rule without change.

The Board, with the concurrence of the Office of Management and Budget, has determined that this is not a significant regulatory action under Executive Order 12866. Therefore, no regulatory impact analysis is required. There are no changes to the information collections associated with parts 260 and 320.

List of Subjects

20 CFR Part 260

Administrative practice and procedure, Claims, Railroad retirement, Reporting and recordkeeping requirements.

20 CFR Part 320

Administrative practice and procedure, Claims, Railroad unemployment insurance, Reporting and recordkeeping requirements.

For the reasons set out in the preamble, the Railroad Retirement Board amends title 20, Chapter II, subchapter B, part 260 and subchapter C, part 320 of the Code of Federal Regulations as follows:

PART 260—REQUESTS FOR RECONSIDERATION AND APPEALS WITHIN THE BOARD

1. The authority citation for part 260 continues to read as follows:

Authority: 45 U.S.C. 231f: 45 U.S.C. 231g; 45 U.S.C. 355.

2. Revise paragraphs (i)(1), (i)(3) and (1) of § 260.5 to read as follows:

§ 260.5 Appeal from a reconsideration decision.

* * * * *

(i) Conduct of an oral hearing. (1) In any case in which an oral hearing is to be held, the hearings officer shall schedule a time and place for the conduct of the hearing. At the discretion of the hearings officer, any hearing required under this part may be held in person, by telephone conference call, or by video teleconferencing as described in § 260.5(1). The hearing shall not be open to the public. The hearings officer shall promptly notify by mail the party or parties to the proceeding as to the time and place for the hearing. The notice shall include a statement of the specific issues involved in the case. The hearings officer shall make every effort to hold the hearing within 150 days after the date the appeal is filed.

* * * * *

(3) The hearings officer shall rule on any objection timely filed by a party under paragraph (i) of this section and shall notify the party of his or her ruling thereon. The hearings officer may for good cause shown, or upon his or her own motion, reschedule the time and/or place of the hearing. If an individual objects to having a hearing by video teleconferencing, the hearings officer will find the individual's wish not to appear by video teleconferencing to be a good reason for changing the time or place of the scheduled hearing and will reschedule the hearing for a time or place where either a telephone conference call or an in person hearing will be held. The hearings officer may also limit or expand the issues to be resolved at the hearing.

* * * * *

(1) Hearing by telephone or video teleconferencing. As stated in paragraph (i)(1) of this section, at the discretion of the hearings officer, any hearing required under this part may be conducted in person, by telephone conference call, or by video teleconferencing. The hearings officer may determine the hearing should be conducted by telephone conference call or video teleconferencing if use of these methods would be more efficient than conducting an in person hearing and the hearings officer does not determine that there is a circumstance in the particular case preventing the use of these methodologies to conduct the hearing.

* * * * *

PART 320—INITIAL DETERMINATIONS UNDER THE RAILROAD UNEMPLOYMENT INSURANCE ACT AND REVIEWS OF AND APPEALS FROM SUCH DETERMINATIONS

3. The authority citation for part 320 continues to read as follows:

Authority: 45 U.S.C. 355 and 362(1).

4. Add a sentence to the beginning of paragraph (a) and revise paragraph (c) of § 320.22 to read as follows:

§ 320.22 Notice of hearing.

(a) Notification of parties. At the discretion of the hearings officer, any hearing required under this part may be held in person, by telephone conference call, or by video teleconferencing as described in § 320.25(d). * * *

* * * * *

(c) Ruling on objection. The hearings officer shall rule on any objection timely filed by a party under this section and shall notify the party of his or her ruling thereon. The hearings officer may for good cause shown, or upon his or her own motion, reschedule the time and/or place of the hearing. If an individual objects to having a hearing by video teleconferencing, the hearings officer will find the individual's wish not to appear by video teleconferencing to be a good reason for changing the time or place of the scheduled hearing and will reschedule the hearing for a time or place where a telephone conference call or an in person hearing will be held. The hearings officer also may limit or expand the issues to be resolved at the hearing.

* * * * *

5. Revise § 320.25(d) to read as follows:

§ 320.25 Hearing of appeal.

* * * * *

(d) Hearing by telephone or video teleconferencing. As stated in § 320.22(a), at the discretion of the hearings officer, any hearing required under this part may be conducted in person, by telephone conference call, or by video teleconferencing. The hearings officer may determine the hearing should be conducted by telephone conference call or video teleconferencing if use of these methods would be more efficient than conducting an in person hearing and the hearings officer does not determine that there is a circumstance in the particular case preventing the use of these methodologies to conduct the hearing.

By Authority of the Board.
Dated: September 6, 2006.
Beatrice Ezerski,
Secretary to the Board.

[FR Doc. 06-8058 Filed 9-21-06; 8:45 am]

BILLING CODE 7905-01-P